DEPARTMENT OF STATE

Bureau of Nonproliferation

[Public Notice 3994]

Correction to Public Notice 3838: Waiver of Certain Missile Proliferation Sanctions Imposed on the Pakistani Ministry of Defense (MOD)

AGENCY: Department of State.

ACTION: Notice.

SUMMARY: This is a correction to Public Notice 3838, “Waiver of Certain Missile Proliferation Sanctions Imposed on the Pakistani Ministry of Defense (MOD),” issued November 13, 2001. P.N. 3838 contains a typographical error under “Supplementary Information,” line 15. The incorrect text reads, “* * * (1) To support Operation Enduring Freedom and (2) to permit sale * * *.” The correct text (below) should read, “* * * (1) To support Operation Enduring Freedom or (2) to permit sale * * *.” The corrected public notice is reproduced below in order to clarify the scope of the November 2, 2001 determination.

EFFECTIVE DATE: November 2, 2001.

FOR FURTHER INFORMATION CONTACT: On missile sanctions issues: Pamela Roe, Office of Chemical, Biological and Missile Nonproliferation, Bureau of Nonproliferation, Department of State, (202) 647-4931. On U.S. Government contracts: Gladys Gines, Office of the Procurement Executive, Department of State, (703-516-1691).

SUPPLEMENTARY INFORMATION: Pursuant to section 73(e) of the Arms Export Control Act (22 U.S.C. 2797b(e)), section 11B(b)(5) of the Export Administration Act of 1979 (50 U.S.C. app. 2410b(b)(5))(as carried out under Executive Order 13222 of August 17, 2001 (66 FR 44025)), and section 2 of Public Law 107-57, a determination was made on November 2, 2001, that it is essential to the national security of the United States to waive missile proliferation sanctions imposed on November 21, 2000, on the Pakistani Ministry of Defense (“MOD”), its sub-units and successors, as follows:

The prohibition on exports of items and technology and U.S. Government contracts as described in section 73(a)(2)(B) of the Arms Export Control Act (22 U.S.C. 2797b(a)(2)(B)) and the prohibition on new individual export licenses as described in section 11B(b)(1)(B)(ii) of the Export Administration Act of 1979 (50 U.S.C. app. 2410b(b)(1)(B)(ii)) were waived for transactions determined to be needed (1) to support Operation Enduring Freedom or (2) to permit sale or export to Pakistan of defense articles or defense services comparable to those delivery of which was blocked by the imposition of sanctions on May 30, 1998.

The following missile proliferation sanctions will remain in place:

(1) Sanctions against the Pakistani entities Space and Upper Atmosphere Research Commission (SUPARCO) and National Development Complex (NDC);

(2) Import sanctions against the Pakistani MOD pursuant to section 73(a)(2)(C) of the Arms Export Control Act and section 11B(b)(1)(B)(iii) of the Export Administration Act;

(3) Prohibition on new State or Commerce export licenses to and new USG contracts with the Pakistani MOD in the absence of a determination that the transaction is within the scope of the waiver described above.

Implementing Procedures: This correction notice also serves as instruction to all U.S. Government agencies as to the procedures for implementing this waiver. Initiating authorities will seek concurrence from the Under Secretary of State for Arms Control and International Security that proposed new individual export licenses or U.S. Government contracts with the Pakistani MOD are within the scope of the waiver. Initiating authorities are instructed to obtain the views of the Departments of State, Defense, Commerce and Treasury as to whether proposed individual export licenses or U.S. Government contracts with the Pakistani MOD are within the scope of the waiver and include those interagency views in their submission to the Under Secretary of State for Arms Control and International Security, who will make the final determination as to whether the proposed licenses or contracts are within the scope of the waiver.

These procedures will remain in effect until November 21, 2002 or until otherwise notified prior to this date.

Dated: April 12, 2002.
John S. Wolf,
Assistant Secretary of State for Nonproliferation, Department of State.

[FR Doc. 02-9507 Filed 4-17-02; 8:45 am]

BILLING CODE 4710-25-P